DEPARTMENT OF EDUCATION

Applications for New Awards; Stronger Connections Technical Assistance and Capacity Building Grant Program

AGENCY: Office of Elementary and Secondary Education, Department of Education.

ACTION: Notice.

SUMMARY: The Department of Education (Department) is issuing a notice inviting applications for fiscal year (FY) 2024 for new awards for the Stronger Connections Technical Assistance and Capacity Building (SCTAC) grant program.

DATES: Applications Available: June 26, 2024. Deadline for Transmittal of Applications: August 26, 2024. Deadline for Intergovernmental Review: October 24, 2024.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Hamed Negron-Perez, U.S. Department of Education, 400 Maryland Avenue SW, Room 4B111, Washington, DC 20202-6132. Telephone: (202) 219-1674. Email: SCTAC@ed.gov.

If you are deaf, hard of hearing, or have a speech disability and wish to access telecommunications relay services, please dial 7-1-1.

SUPPLEMENTARY INFORMATION:

Full Text of Announcement

I. Funding Opportunity Description

Purpose of Program: The purpose of the SCTAC grant program is to advance the mental health and well-being of early learners (as defined in this notice), school-age children and youth, and educators and other school staff, by making grants to State educational agencies (SEAs) to provide technical assistance and capacity building to high-need local educational agencies (LEAs) (as defined in this notice).

Assistance Listing Number (ALN): 84.424H.

OMB Control Number: 1894-0006.

Background: The Bipartisan Safer Communities Act (BSCA) allocated $1 billion in funding to States through the Stronger Connections Grant (SCG) program; SEAs, in turn, subgranted these funds competitively to high-need LEAs to design and enhance initiatives to promote safer, more inclusive, and positive school environments for all students, educators, and school staff including through personnel and programs to support student mental health.

The SCTAC grant program is being established with BSCA funds from the two percent reservation for technical assistance and capacity building under section 4103(a)(3) of the Elementary and Secondary Education Act of 1965, as amended (ESEA). This funding is available to SEAs to provide technical assistance and capacity building services to high-need LEAs for evidence-based (as defined in 34 CFR 77.1) and culturally and linguistically inclusive programs and activities related to mental health and well-being for early learners, school-age children and youth, and educators and other school staff. We encourage SEAs receiving SCTAC funds to prioritize high-need LEAs that did not receive a Stronger Connections subgrant from the SEA for technical assistance and capacity building services under this program.

“Raise the Bar: Lead the World” is the Department's call to action to transform education and unite around what works—based on decades of experience and research—to advance educational equity and excellence. As part of our Raise the Bar efforts to boldly improve learning conditions, the Department continues to invest in every student's mental health and well-being.

Recent studies show that children who experience unaddressed mental health issues are more likely to face challenges in school, such as being more likely to repeat a grade and experience chronic absenteeism, and less likely to graduate high school.¹ Amid the pandemic, data from the Centers for Disease Control and Prevention (CDC) showed that 1 in 3 high school students experienced poor mental health, 1 in 6 adolescents experienced a major depressive episode, and 20 percent of teens seriously considered suicide.² The suicide rate among Black youth similarly is increasing faster than for any other race or ethnic group.³ Of teens seriously considering suicide, rates are alarmingly high for LGBTQ students, with 45% of LGBTQ youth surveyed indicating they seriously considered attempting suicide in the past year.⁴

¹ Larson, S., Chapman, S., Spetz, J., & Brindis, C.D. Chronic childhood trauma, mental health, academic achievement, and school-based health center mental health services. J Sch Health. 2017; 87: 675-686. Retrieved from: https://escholarship.org/content/qt6th2r852/qt6th2r852.pdf.

² Youth Risk Behavior Survey: Data Summary and Trends Report. Centers for Disease Control and Prevention 2011-2021. Retrieved from: https://www.cdc.gov/healthyyouth/data/yrbs/pdf/YRBS_Data-Summary-Trends_Report2023_508.pdf.

³ Akkas, Faranza, A. Corr. Black Adolescent Suicide Rate Reveals Urgent Need to Address Mental Health Care Barriers. April 2024. Retrieved from: https://www.pewtrusts.org/en/research-and-analysis/articles/2024/04/22/black-adolescent-suicide-rate-reveals-urgent-need-to-address-mental-health-care-barriers.

⁴ https://www.thetrevorproject.org/survey-2022/.

These data are consistent with research findings about the mental health and well-being of early learners as well. According to the CDC, 17.4 percent of children aged 2-8 years had a diagnosed mental, behavior, or developmental disorder.⁵ This same report showed an increase to 22 percent for children living below 100 percent of the Federal poverty level.

⁵ Cree, R.A., Bitsko, R.H., Robinson, L.R., et al. Health Care, Family, and Community Factors Associated with Mental, Behavioral, and Developmental Disorders and Poverty Among Children Aged 2-8 Years—United States, 2016. MMWR Morb Mortal Wkly Rep 2018;67:1377-1383. Retrieved from: http:\\dx.doi.org/10.15585/mmwr.mm6750a1.

Educators and other school staff are also facing mental health and well-being challenges. According to the Department's National Center for Education Statistics February 2024 School Pulse Panel, 91 percent of public school principals or vice principals reported some level of concern about the mental health of the teachers or staff at their school and 41 percent reported being “moderately” or “extremely” concerned about this issue.⁶

⁶ U.S. Department of Education, Institute of Education Sciences, National Center for Education Statistics, School Pulse Panel. February 2024. Retrieved from: https://nces.ed.gov/surveys/spp/results.asp.

Educator mental health and well-being carry implications for educator retention, and thus downstream effects on student educational opportunity and achievement, making it a critical priority for States and LEAs. A recent study found that 23 percent of teachers said they were likely to leave their job by the end of the 2022-2023 school year and Black teachers, who are more likely to teach in under resourced schools without the necessary student and educator support, were significantly more likely to intend to leave than their peers.⁷ The same study found that teachers who reported poor well-being as a reason for likely leaving their job were more likely than their counterparts to say that they intended to leave their job.

⁷ Doan, S., Steiner, E., Pandey, R., & Woo, A. (June 2023). Teacher Well-Being and Intentions to Leave: Findings from the 2023 State of the American Teacher Survey. Rand Corporation. Retrieved from: https://www.rand.org/content/dam/rand/pubs/research_reports/RRA1100/RRA1108-8/RAND_RRA1108-8.pdf.

The SCTAC program is designed to build SEA capacity to address the particular needs of the high-need LEAs in their State. In responding to the areas identified in the absolute priority, we encourage projects that provide technical assistance and capacity building to high-need LEAs to address chronic absenteeism and increase student engagement and school belonging, for example, by implementing strong student connection and engagement activities or school climate improvement strategies. One evidence-based example that SEAs may consider, for example, is mentorship programs that focus on small-group counseling and help youth to build skills and competencies on choosing non-violent behaviors and using de-escalation and violence reduction strategies.⁸ The Department is also interested in activities that enhance supportive services for youth impacted by community violence such as through trauma recovery, restorative practices, and community violence intervention and prevention strategies. For example, programs that use a trauma-informed approach to support social emotional wellbeing have been reported to decrease depression and increase self-confidence in participants.⁹ When considering these different programs and activities, we encourage applicants to propose projects that include strategies specific to supporting young people, with a focus on those most historically underserved.¹⁰

⁸ Centers for Disease Control and Prevention. Retrieved from: https://www.cdc.gov/youth-violence/prevention/index.html.

⁹ https://www.youth-guidance.org/wow/.

¹⁰ Center for Disease Control and Prevention. Retrieved from: https://www.cdc.gov/vitalsigns/aces/index.html.

Applicants may propose projects that also support the mental health, well-being, and academic development of early learners, for example, by providing technical assistance and capacity building services on how to remove barriers and increase access to social, emotional, and mental health supports; provide support to caregivers; strengthen family engagement activities; enhance home visits to encourage school and attendance readiness; and establish participatory approaches with families and community partners.¹¹

¹¹ Substance Abuse and Mental Health Services Administration. Retrieved from: https://www.samhsa.gov/early-childhood-mental-health-programs.

We also welcome applications that propose to support educator mental health and well-being so that they are well positioned to support their students. For example, SEAs may consider proposing projects to better understand and address experiences, particularly in the school building, that impact educator mental health and well-being.

SEAs may also propose projects that provide technical assistance and capacity building to high-need LEAs on youth mental health programs that include peer-to-peer support programs, such as mental health “first aid” programs (as defined in this notice). Studies of youth mental health first aid have shown positive results in terms of providing youth peers, and adults who work closely with youth, the ability to recognize the signs, symptoms, and risk factors of mental health and substance use challenges.¹² Additionally, youth peer-to-peer support programs, such as peer counseling, youth mental health peer ambassadors, student-led clubs, and restorative justice programs, are additional promising practices. Broader studies of peer-to-peer programs show a variety of positive outcomes including reduced re-hospitalization rates, better quality of life outcomes, higher engagement rates, and improved whole health.¹³

¹² Research and Evaluation of Youth Mental Health First Aid. National Council for Mental Wellbeing. Retrieved from: https://www.mentalhealthfirstaid.org/wp-content/uploads/2024/03/2024.01.05_YouthMHFA_Research-One-pager-1.pdf.

¹³ Evidence for Peer Support (2018). Mental Health America. Retrieved from: https://www.mhanational.org/sites/default/files/Evidence%20for%20Peer%20Support%20May%202018.pdf.

These important activities can help high-need LEAs create safe, welcoming, and inclusive learning environments that support student mental health and wellbeing which is foundational to improving academic and other outcomes for all students.

This notice invites applications for SCTAC grants. The Department developed budget ranges for each potential applicant by ranking every State according to the State's share of their Stronger Connections Grant, Title IV, Part A funds (see the “Award Information” section of this notice for more information). SEAs should develop budgets that are appropriate to their proposed projects and consistent with the budget range established for their State. Department staff will review applications to determine if an SEA met the absolute priority, addressed the application requirements, and proposed a budget consistent with their State's established budget range. Peer reviewers will review applications to determine the extent to which applicants met the established selection criteria.

Priorities: This competition has one absolute priority. We are establishing this priority for this grant competition in accordance with section 437(d)(1) of the General Education Provisions Act (GEPA), 20 U.S.C. 1232(d)(1).

Absolute Priority: For FY 2024 and any subsequent year in which we make awards from the list of unfunded applications from this competition, this priority is an absolute priority. Under 34 CFR 75.105(c)(3), we consider only applications that meet this priority.

This priority is:

Projects to provide technical assistance and capacity building to high-need LEAs to support inclusive, evidence-based programs and activities related to mental health and well-being for early learners, school-age children and youth, or educators and other school staff.

To meet this priority, applicants must propose a project that would provide technical assistance and capacity building to high-need LEAs to help them establish or expand evidence-based, inclusive practices in one or more of the following areas:

(a) Student attendance and engagement programs designed to reduce rates of chronic absenteeism and improve attendance, engagement, connectedness, and wellbeing that include, for example:

(1) Increasing family engagement and communication, including through a variety of approaches to communication, such as through the use of texting to share real-time data on attendance, to more targeted engagement, such as through home visits to identify additional student and family supports that might be needed;

(2) Improving school climate and implementing anti-bullying efforts;

(3) Providing student mentorship programs, such as student success coaches and mentors, and supportive peer groups;

(4) Adopting early warning intervention systems and multi-tiered systems of support; and

(5) Establishing school and local educational agency attendance and engagement teams and providing them with real time and actionable data.

(b) Programs for early learners that support their mental health, well-being, and academic development through activities such as—

(1) Increasing access for early learners to social, emotional, and mental health supports, and reducing barriers to access for underserved students; and

(2) Building strong partnerships among parents, families, caregivers, social service organizations, mental health care personnel, personnel providing services to students served under section 619 of the Individuals with Disabilities Education Act (IDEA), and community-based organizations serving pre-kindergarten, kindergarten, and early grade students to improve the environment, relationships, engagement, attendance, and experiences that impact children's early development.

(c) Programs to improve educator and school staff mental health and wellbeing, so that these individuals may better support students and are more likely to remain in the profession, through activities such as—

(1) Developing methods, measurement tools, or interventions for high-need LEAs to understand, and to address the factors, including school-related factors, that impact educator mental health and well-being. This includes developing the methods and tools for disaggregating data by, for example, teacher race/ethnicity and years of experience), to get a complete understanding of the factors and who is impacted.

(2) Strengthening social, emotional, and behavioral competencies among adults;

(d) Peer-to-peer mental health or youth mental health programs supported by schools or qualified local organizations to reduce the impact of unaddressed mental health challenges such as those caused by exposure to community violence and to increase student belonging and connection, including, for example—

(1) Implementing peer-to-peer programs that raise awareness around core mental health concepts and destigmatize mental health care, provide training for students to identify protective ¹⁴ and risk factors related to mental health and well-being, and connect students to resources and professionals for additional support; and

¹⁴ A characteristic at the biological, psychological, family, or community (including peers and culture) level that is associated with a lower likelihood of problem outcomes or that reduces the negative impact of a risk factor on problem outcomes. Retrieved from: https://youth.gov/youth-topics/youth-mental-health/risk-and-protective-factors-youth.

(2) Implementing youth mental health first aid programs to train students on how to identify, understand, and respond to signs of common mental health and well-being challenges.

(e) Improving data collection, use, and reporting as it relates to implementation and performance management of an SEA's SCG program.

Definitions: The following definitions apply to the FY 2024 SCTAC grant program competition and any subsequent year in which we make awards from the list of unfunded applications for this competition.

We are establishing definitions of “high-need LEA,” “early learner,” and “mental health first aid” in accordance with section 437(d)(1) of GEPA, 20 U.S.C. 1232(d)(1). The definitions of “local educational agency” and “State educational agency” are from section 8101 of the ESEA (20 U.S.C. 7801). The definitions “baseline,” “demonstrates a rationale,” “evidence-based,” “experimental study,” “logic model,” “moderate evidence,” “project component,” “quasi-experimental design study,” “relevant outcome,” and “What Works Clearinghouse Handbooks (WWC Handbooks)” are from 34 CFR 77.1. These definitions apply to the FY 2024 SCTAC grant program competition and any subsequent year in which we make awards from the list of unfunded applications for this competition.

Baseline means the starting point from which performance is measured and targets are set.

Demonstrates a rationale means a key project component included in the project's logic model is informed by research or evaluation findings that suggest the project component is likely to improve relevant outcomes.

Early learner means any person from birth to age 8 who is eligible for a free public education in the State.

Evidence-based means the proposed project component is supported by one or more of strong evidence, moderate evidence, promising evidence, or evidence that demonstrates a rationale.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks (as defined in this notice):

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

High-need LEA has the meaning ascribed it by the SEA under its Stronger Connections Grant program.

Local educational agency means a public board of education or other public authority legally constituted within a State for either administrative control or direction of, or to perform a service function for, public elementary schools or secondary schools in a city, county, township, school district, or other political subdivision of a State, or of or for a combination of school districts or counties that is recognized in a State as an administrative agency for its public elementary schools or secondary schools.

(a) The term includes any other public institution or agency having administrative control and direction of a public elementary school or secondary school.

(b) The term includes an elementary or secondary school funded by the Bureau of Indian Education (BIE) but only to the extent that including the school makes the school eligible for programs for which specific eligibility is not provided to the school in another provision of law and the school does not have a student population that is smaller than the student population of the LEA receiving assistance under the ESEA with the smallest student population, except that the school shall not be subject to the jurisdiction of any SEA other than the BIE.

(c) The term includes educational service agencies and consortia of those agencies.

(d) The term includes the SEA in a State in which the SEA is the sole educational agency for all public schools.

Logic model (also referred to as a theory of action) means a framework that identifies key project components of the proposed project (i.e., the active “ingredients” that are hypothesized to be critical to achieving the relevant outcomes) and describes the theoretical and operational relationships among the key project components and relevant outcomes.

Mental health first aid means the skills needed to recognize and respond to signs and symptoms of mental health and substance use challenges and know how to connect individuals to additional resources, including professional help.

Moderate evidence means that there is evidence of effectiveness of a key project component in improving a relevant outcome for a sample that overlaps with the populations or settings proposed to receive that component, based on a relevant finding from one of the following:

(i) A practice guide prepared by the WWC using version 2.1, 3.0, 4.0, or 4.1 of the WWC Handbooks reporting a “strong evidence base” or “moderate evidence base” for the corresponding practice guide recommendation;

(ii) An intervention report prepared by the WWC using version 2.1, 3.0, 4.0, or 4.1 of the WWC Handbooks reporting a “positive effect” or “potentially positive effect” on a relevant outcome based on a “medium to large” extent of evidence, with no reporting of a “negative effect” or “potentially negative effect” on a relevant outcome; or

(iii) A single experimental study (as defined in this notice) or quasi-experimental design study (as defined in this notice) reviewed and reported by the WWC using version 2.1, 3.0, 4.0, or 4.1 of the WWC Handbooks, or otherwise assessed by the Department using version 4.1 of the WWC Handbook, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy this requirement.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

State educational agency (SEA) means the agency primarily responsible for the State supervision of public elementary schools and secondary schools.

Strong evidence means that there is evidence of the effectiveness of a key project component in improving a relevant outcome for a sample that overlaps with the populations and settings proposed to receive that component, based on a relevant finding from one of the following:

(i) A practice guide prepared by the WWC using version 2.1, 3.0, 4.0, or 4.1 of the WWC Handbooks reporting a “strong evidence base” for the corresponding practice guide recommendation;

(ii) An intervention report prepared by the WWC using version 2.1, 3.0, 4.0, or 4.1 of the WWC Handbooks reporting a “positive effect” on a relevant outcome based on a “medium to large” extent of evidence, with no reporting of a “negative effect” or “potentially negative effect” on a relevant outcome; or

(iii) A single experimental study reviewed and reported by the WWC using version 2.1, 3.0, 4.0, or 4.1 of the WWC Handbooks, or otherwise assessed by the Department using version 4.1 of the WWC Handbooks, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy the requirement in this paragraph (iii)(D).

What Works Clearinghouse Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbook (Version 4.1), as well as the more recent What Works Clearinghouse Handbooks released in August 2022 (Version 5.0), are available at https://ies.ed.gov/ncee/wwc/Handbooks.

Application Requirements: We are establishing the following application requirements for the FY 2024 grant competition and any subsequent year in which we make awards from the list of unfunded applications for this competition, in accordance with section 437(d)(1) of GEPA, 20 U.S.C. 1232(d)(1).

Applicants must include the following in their applications:

(1) A description of the criteria the SEA will use to identify the high-need LEAs that will receive technical assistance and capacity building services under this program.

(2) A plan (i.e., description of key activities, milestones, timeline, resources, performance measures, and partnerships) for providing the proposed technical assistance and capacity building services to high-need LEAs.

(3) A plan for developing and disseminating the technical assistance and capacity building products and resources the SEA develops, as applicable.

Waiver of Proposed Rulemaking: Under the Administrative Procedure Act (5 U.S.C. 553), the Department generally offers interested parties the opportunity to comment on proposed priorities, requirements, and definitions. Section 437(d)(1) of GEPA, however, allows the Secretary to exempt from rulemaking requirements regulations governing the first grant competition under a new or substantially revised program authority. This is the first grant competition for this program under section 4103(a)(3) of the ESEA and therefore qualifies for this exemption. In order to ensure timely grant awards, the Secretary has decided to forgo public comment on the priority, requirements, and definitions under section 437(d)(1) of GEPA. These requirements and definitions will apply to the FY 2024 grant competition and any subsequent year in which we make awards from the list of unfunded applications from this competition.

Program Authority: Section 4103(a)(3) of the ESEA; Public Law 117-159 (enacted June 25, 2022), Bipartisan Safer Communities Act, Division B, Title II, School Improvement Programs.

Applicable Regulations: (a) The Education Department General Administrative Regulations in 34 CFR parts 75, 77, 79, 81, 82, 84, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474.

Note: The Department will implement the provisions included in the OMB final rule, OMB Guidance for Federal Financial Assistance, which amends 2 CFR parts 25, 170, 175, 176, 180, 182, 183, 184, and 200, on October 1, 2024. Grant applicants that anticipate a performance period start date on or after October 1, 2024 should follow the provisions stated in the OMB Guidance for Federal Financial Assistance (89 FR 30046) when preparing an application. For more information about these updated regulations please visit: https://www.cfo.gov/resources/uniform-guidance/.

Note: The regulations in 34 CFR part 79 apply to all applicants except federally recognized Indian Tribes.

II. Award Information

Type of Award: Discretionary grants.

Available Funds: $10,930,000.

Project Period: Up to 36 months. Budgets should be developed for a single project period of up to 36 months.

Maximum Awards: An SEA may initially request no more than the maximum amount (as noted below in the designated category ranges) for its project period. If funds remain available after funding each successful applicant at its requested amount, the Department may, to the extent appropriate, increase the awards for successful applicants. If available funds are insufficient to fully award each successful applicant at its requested amount, the Department will ratably reduce the awards for all successful applicants. The budget ranges are as follows:

Category 1—$500,000-$1,000,000: California, Texas, New York, Florida.

Category 2—$250,000-$500,000: Illinois, Pennsylvania, Georgia, Ohio, North Carolina, Michigan, New Jersey.

Category 3—$120,000-250,000: Arizona, Louisiana, Tennessee, Virginia, Maryland, South Carolina, Alabama, Kentucky, Indiana, Washington, Missouri, Massachusetts, Mississippi, Wisconsin, Oklahoma.

Category 4—$60,000-$150,000: Arkansas, Minnesota, Colorado, Nevada, Connecticut, Oregon, New Mexico, Kansas, Iowa, West Virginia.

Category 5—$50,000-$100,000: Alaska, Delaware, Hawaii, Idaho, Maine, Montana, Nebraska, New Hampshire, North Dakota, Rhode Island, South Dakota, Utah, Vermont, Wyoming, Bureau of Indian Education, District of Columbia, Puerto Rico.

Category 6—$25,000-$50,000: The Outlying Areas of Guam, American Samoa, the Northern Mariana Islands, the United States Virgin Islands.

III. Eligibility Information

1. Eligible Applicants: SEAs, as defined in 20 U.S.C. 7801(49); and the Bureau of Indian Education. (Section 437(d)(1) of GEPA)

2. a. Cost Sharing or Matching: This program does not require cost sharing or matching.

b. Supplement-Not-Supplant: This competition involves supplement-not-supplant funding requirements. Grantees must use SCTAC funds to supplement, and not supplant, other non-Federal funds that would otherwise be used to pay for activities authorized under the SCTAC program.

c. Indirect Cost Rate Information: This program uses a restricted indirect cost rate. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

4. Equitable Services: (a) Grantees must ensure that equitable services are provided to eligible students and teachers in non-public schools as required under section 8501 of the ESEA, including through timely and meaningful consultation with representatives of non-public schools.

(b) The SEA must ensure that a public agency will maintain control of SCTAC funds used to provide services and assistance to non-public school students and teachers.

(c) The SEA must ensure that a public agency will have title to materials, equipment, and property purchased with SCTAC funds.

(d) The SEA must ensure that services to non-public school students and teachers with SCTAC funds will be provided by a public agency directly, or through contract with, another public or private entity.

Note: This section (4) is not applicable to the BIE.

5. Funding Restrictions: We reference regulations outlining funding restrictions in the Applicable Regulations section of this notice. In addition, we remind applicants that sections 4001(a) and 4001(b) of the ESEA (20 U.S.C. 7101) apply to this program. Section 4001(a) requires entities receiving funds under this program to obtain prior, written, informed consent from the parent of each child who is under 18 years of age to participate in any mental-health assessment or service that is funded under this program and conducted in connection with an elementary or secondary school. Section 4001(b) prohibits the use of funds for medical services or drug treatment or rehabilitation, except for integrated student supports, specialized instructional support services, or referral to treatment for impacted students, which may include students who are victims of, or witnesses to, crime or who illegally use drugs. This prohibition does not preclude the use of funds to support mental health counseling and support services, including those provided by a mental health services provider outside of school, so long as such services are not medical.

IV. Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application.

2. Intergovernmental Review: This program is subject to Executive Order 12372 and the regulations in 34 CFR part 79. Information about Intergovernmental Review of Federal Programs under Executive Order 12372 is in the application package for this competition.

3. Recommended Page Limit: The project narrative is where you, the applicant, address the absolute priority and application requirements. We recommend that you (1) limit the application narrative to the equivalent of no more than 10 pages and (2) use the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit applies to the project narrative.

V. Application Review Information

1. Selection Criteria: The selection criteria for this program are from 34 CFR 75.210. The maximum score for all selection criteria is 100 points. The points assigned to each criterion are indicated in parentheses. Non-Federal peer reviewers will evaluate and score each application program narrative against the following selection criteria:

(a) Quality of the project design (up to 60 points)

The Secretary considers the quality of the design of the proposed project. In determining the quality of the design of the proposed project, the Secretary considers the following factors:

(1) The extent to which the goals, objectives, and outcomes to be achieved by the proposed project are clearly specified and measurable. (Up to 30 points)

(2) The extent to which the design of the proposed project is appropriate to, and will successfully address, the needs of the target population or other identified needs. (Up to 30 points)

(b) Quality of the management plan (Up to 30 points)

The Secretary considers the quality of the management plan for the proposed project. In determining the quality of the management plan for the proposed project, the Secretary considers the adequacy of the management plan to achieve the objectives of the proposed project on time and within budget, including clearly defined responsibilities, timelines, and milestones for accomplishing project tasks.

(c) Adequacy of resources (Up to 10 points)

The Secretary considers the adequacy of the resources for the proposed project. In determining the adequacy of resources for the proposed project, the Secretary considers the potential for continued support of the project after Federal funding ends, including, as appropriate, the demonstrated commitment of appropriate entities to such support.

2. Review and Selection Process: Non-Federal peer reviewers will review applications to determine the extent to which the applications address the selection criteria.

We remind potential applicants that, in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program, the Department conducts a review of the risks posed by applicants. Under 2 CFR 3474.10, the Secretary may impose specific conditions, and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you receive an award under this grant program that, over the course of the project period, may exceed the simplified acquisition threshold (currently $250,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Guidance for Federal Financial Assistance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN), or we may send you an email containing a link to access an electronic version of your GAN. We also may notify you informally.

If your application is not evaluated or not selected for funding, we notify you.

2. Administrative and National Policy Requirements: We identify administrative and national policy requirements in the application package and reference these and other requirements in the Applicable Regulations section of this notice. We reference the regulations outlining the terms and conditions of a grant in the Applicable Regulations section of this notice. The Grant Award Notification (GAN) also incorporates your approved application as part of your binding commitments under the grant.

3. Reporting: (a) If you apply for a grant under this competition, you must ensure that you have in place the necessary processes and systems to comply with the reporting requirements in 2 CFR part 170 should you receive funding. This does not apply if you have an exception under 2 CFR 170.110(b).

(b) At the end of your project period, you must submit a final performance report, including financial information, as directed by the Secretary. The Secretary may also require more frequent performance reports under 34 CFR 75.720(c). For specific requirements on reporting, please go to www.ed.gov/fund/grant/apply/appforms/appforms.html.

4. Performance Measures: For the purpose of Department reporting under 34 CFR 75.110, we have established the following performance measures for the SCTAC grant program:

(a) The number of technical assistance and capacity-building services provided to assist high-need LEAs.

(b) The number and percentage of high-need LEAs reporting that the technical assistance provided was high-quality, relevant, and useful.

(c) The number and percentage of high-need LEAs reporting an increase in capacity as a result of technical assistance and capacity building services provided.

These measures constitute the Department's indicators of success for this program. Consequently, we advise an applicant for a grant under this program to consider these measures in conceptualizing the approach and evaluation for its proposed project. Each grantee must provide, in its performance reports, data about its progress in meeting these measures.

Consistent with 34 CFR 75.591, grantees funded under this program must comply with the requirements of any evaluation of the program conducted by the Department or an evaluator selected by the Department.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or PDF. To use PDF, you must have Adobe Acrobat Reader, which is available free at the site.

You may also access Department documents published in the Federal Register by using the article search feature at www.federalregister.gov. Specifically, through the advanced search feature at this site, you can limit your search to documents published by the Department.

Adam Schott,
Principal Deputy Assistant Secretary for Policy and Programs, Delegated the Authority to Perform the Functions and Duties of the Assistant Secretary, Office of Elementary and Secondary Education.

[FR Doc. 2024-14000 Filed 6-25-24; 8:45 am]

BILLING CODE 4000-01-P